SMALL BUSINESS ADMINISTRATION

Military Reservist Economic Injury Disaster Loans Interest Rate for Fourth Quarter FY 2016

In accordance with the Code of Federal Regulations 13—Business Credit and Assistance § 123.512, the following interest rate is effective for Military Reservist Economic Injury Disaster Loans approved on or after July 22, 2016.

Military Reservist Loan Program 4.000%.

Dated: July 15, 2016.
Lisa Lopez Suarez,
Acting Associate Administrator for Disaster Assistance.

[FR Doc. 2016-17467 Filed 7-22-16; 8:45 am]

BILLING CODE P